DEPARTMENT OF COMMERCE

National Oceanic and Atmospheric Administration

RIN 0648-XJ40

Endangered Species; File No. 13543

AGENCY: National Marine Fisheries Service (NMFS), National Oceanic and Atmospheric Administration (NOAA), Commerce.

ACTION: Notice; issuance of permit modification.

SUMMARY: Notice is hereby given that South Carolina Department of Natural Resources [Responsible Party: Robert Boyles], 217 Ft. Johnson Rd., Charleston, SC 29412, has been issued a modification to scientific research Permit No. 13543.

ADDRESSES: The modification and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Amy Hapeman or Kristy Beard, (301) 427-8401.

SUPPLEMENTARY INFORMATION: On January 17, 2013, notice was published in the Federal Register (78 FR 3882) that a modification to Permit No. 13543, issued April 30, 2009 (74 FR 20926), had been requested by the above-named organization. The requested modification has been granted under the authority of the Endangered Species Act of 1973, as amended (ESA; 16 U.S.C. 1531 et seq.) and the regulations governing the taking, importing, and exporting of endangered and threatened species (50 CFR 222-226).

Permit No. 13543 authorizes the permit holder to handle, measure, weigh, affix a passive integrated transponder tag, flipper tag, and photograph sea turtles that have already been captured by authorized coastal trawl surveys in waters from North Carolina to Florida. The purpose of the research is to further the understanding of the growth, distribution, and life history of sea turtles. The permit modification, No. 13543-01 authorizes the requested increase in annual take limits for Kemp's ridley (Lepidochelys kempii) and loggerhead (Caretta caretta) sea turtles to accommodate recent increases in capture rates of these species in the trawl surveys. The permit is valid through April 30, 2014.

Issuance of this modification, as required by the ESA, was based on a finding that such permit (1) was applied for in good faith, (2) will not operate to the disadvantage of such endangered or threatened species, and (3) is consistent with the purposes and policies set forth in section 2 of the ESA.

Dated: May 20, 2013.
P. Michael Payne,
Chief, Permits and Conservation Division, Office of Protected Resources, National Marine Fisheries Service.

[FR Doc. 2013-12361 Filed 5-23-13; 8:45 am]

BILLING CODE 3510-22-P